DEPARTMENT OF TRANSPORTATION

Federal Aviation Administration

14 CFR Part 39

[Docket No. FAA-2011-1453; Directorate Identifier 2009-SW-46-AD; Amendment 39-17394; AD 2013-05-22]

RIN 2120-AA64

Airworthiness Directives; Agusta S.p.A. Helicopters

AGENCY: Federal Aviation Administration (FAA), DOT.

ACTION: Final rule.

SUMMARY: We are adopting a new airworthiness directive (AD) for all Agusta S.p.A. (Agusta) Model A109, A109A, A109A II, A109C, A109K2, A109E, A109S, and A119 helicopters. This AD was prompted by a mandatory continuing airworthiness information (MCAI) AD issued by the European Aviation Safety Agency (EASA), which is the Technical Agent for the Member States of the European Community. The MCAI AD states that a Model A109E helicopter experienced a failure of the tail rotor pitch control link assembly caused by a production defect. The actions of this AD are intended to prevent failure of a tail rotor pitch control link and subsequent loss of control of the helicopter.

DATES: This AD is effective April 30, 2013.

The Director of the Federal Register approved the incorporation by reference of certain documents listed in this AD as of April 30, 2013.

ADDRESSES: For service information identified in this AD, contact Agusta Westland, Customer Support & Services, Via Per Tornavento 15, 21019 Somma Lombardo (VA) Italy, ATTN: Giovanni Cecchelli; telephone 39 (0331) 711133; fax 39 (0331) 711180; or at http://www.agustawestland.com/technical-bullettins. You may review a copy of the referenced service information at the FAA, Office of the Regional Counsel, Southwest Region, 2601 Meacham Blvd., Room 663, Fort Worth, Texas 76137.

Examining the AD Docket

You may examine the AD docket on the Internet at http://www.regulations.gov; or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Gary Roach, Aerospace Engineer, Rotorcraft Directorate, Regulations and Policy Group, FAA, 2601 Meacham Blvd., Fort Worth, Texas 76137; telephone (817) 222-5110; email gary.b.roach@faa.gov.

SUPPLEMENTARY INFORMATION:

Discussion

On January 11, 2012, at 77 FR 1654, the Federal Register published our notice of proposed rulemaking (NPRM), which proposed to amend 14 CFR part 39 to include an AD that would apply to Agusta Model A109, A109A, A109A II, A109C, A109K2, A109E, A109S, and A119 helicopters, with a certain tail rotor pitch control link assembly (link assembly). That NPRM proposed to require inspecting the link assembly for freedom of movement of the links and, if a rotation resistance or binding occurred, either replacing it with an airworthy link assembly with a “T” marked after the serial number, or inspecting it for the torsion value force of the ball bearing before further flight. If no rotation resistance or binding occurred during the inspection, the NPRM proposed inspecting the link assembly for the torsion value force of the ball bearing rotation within 5 hours time-in-service. If the torsion value force in either end of the link assembly is greater than 7.30 N, the NPRM proposed replacing the link assembly. If the torsion value force of the ball bearing in both ends of the link assembly is equal to or less than 7.30 N, the NPRM proposed inspecting the stem of the link assembly for a crack and, if there is a crack, replacing the link assembly. The proposed requirements were intended to prevent failure of a tail rotor pitch control link and subsequent loss of control of the helicopter.

EASA issued EASA AD No. 2006-0228-E, dated July 27, 2006 (AD 2006-0228-E), to correct an unsafe condition for Agusta Model A109A, A109A II, A109C, A109K2, A109E, A109S, A109LUH and A119 helicopters. EASA advises that an Agusta Model A109E helicopter experienced a failure of a tail rotor pitch control link assembly with 10 flight hours.

Comments

We gave the public the opportunity to participate in developing this AD, but we did not receive any comments on the NPRM (77 FR 1654, January 11, 2012).

FAA's Determination

These helicopters have been approved by the aviation authority of Italy and are approved for operation in the United States. Pursuant to our bilateral agreement with Italy, EASA, its technical representative, has notified us of the unsafe condition described in the EASA AD. We are issuing this AD because we evaluated all information provided by EASA and determined the unsafe condition exists and is likely to exist or develop on other helicopters of these same type designs and that air safety and the public interest require adopting the AD requirements as proposed except we are correcting the paragraph reference in paragraph (e)(3) of the required actions. Paragraph (e)(3) references the inspection requirements of “paragraph (2)(ii)” when the correct reference is “paragraph (2).” This change is consistent with the intent of the proposals in the NPRM (77 FR 1654, January 11, 2012) and will not increase the economic burden on any operator nor increase the scope of the AD.

Related Service Information

Agusta has issued Alert Bollettino Tecnico (ABT) No. 109S-5, dated July 26, 2006, for Model A109S helicopters; ABT No. 109EP-70, dated July 27, 2006, for Model A109E helicopters; ABT No. 109K-47, dated July 27, 2006, for Model A109K2 helicopters; ABT No. 109-122, dated July 27, 2006, for Model A109A, A109A II, and A109C helicopters; and ABT No. 119-15, dated July 27, 2006, for Model A119 helicopters. These ABTs specify performing a one-time inspection of the subject link assembly for excessive friction of the spherical bearing of the bearing ball and for a crack. The EASA classified these ABTs as mandatory and issued EASA AD 2006-0228-E, to ensure the continued airworthiness of these helicopters.

Differences Between This AD and the EASA AD

This AD does not apply to uninstalled parts whereas the EASA AD does apply to uninstalled parts. This AD includes the Agusta Model A109 helicopter whereas the EASA AD does not. The EASA AD applies to the Model A109LUH helicopter; however, this AD does not. This AD does not require accomplishing Part III of the ABTs; the EASA AD does.

Costs of Compliance

We estimate that this AD will affect 203 helicopters of U.S. Registry.

We estimate that operators may incur the following costs in order to comply with this AD. It will take about 5 work-hours per helicopter to inspect each tail rotor pitch control link assembly, the average labor rate is $85 per work-hour, and required parts will cost about $3,188 per helicopter. Based on these figures, we estimate the total cost to be $733,439, assuming the tail rotor pitch control link assembly is replaced on the entire fleet.

According to the Agusta service information some of the costs of this AD may be covered under warranty, thereby reducing the cost impact on affected individuals. We do not control warranty coverage by Agusta. Accordingly, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-05-22 Agusta S.p.A. (Agusta): Amendment 39-17394; Docket No. FAA-2011-1453; Directorate Identifier 2009-SW-46-AD.

(a) Applicability

This AD applies to Agusta Model A109, A109A, A109A II, A109C, A109K2, A109E, A109S, and A119 helicopters, with a tail rotor pitch control link assembly (link assembly), part number (P/N) 109-0130-05-117, with less than 100 hours time-in-service (TIS) and with a serial number (S/N) with a prefix of “MO” and S/N 001 through 773 and without the letter “T” suffix after the S/N, installed, certificated in any category.

(b) Unsafe Condition

This AD defines the unsafe condition as a failure of the tail rotor pitch control link assembly, P/N 109-0130-05-117. This condition could result in failure of the tail rotor pitch control link and subsequent loss of control of the helicopter.

(c) Effective Date

This AD becomes effective April 30, 2013.

(d) Compliance

You are responsible for performing each action required by this AD within the specified compliance time unless it has already been accomplished prior to that time.

(e) Required Actions

(1) Before further flight, inspect the link assembly for freedom of movement while it is installed on the helicopter. If rotation resistance or binding occurs, before further flight, remove the link assembly from the helicopter, and either:

(i) Replace it with an airworthy link assembly with a “T” marked after the serial number, or

(ii) Inspect the link assembly for the torsion value force of the ball bearing rotation, in accordance with paragraph (e)(2) of this AD.

(2) If there is no rotation resistance or binding found during the inspection required by paragraph (e)(1) of this AD that required an immediate torsion value force inspection, within 5 hours TIS, remove the link assembly from the helicopter and inspect the torsion value force of the ball bearing rotation by referring to Figure 1 and following the Compliance Instructions, Part II, paragraphs 3. through 3.2, of Agusta Alert Bollettino Tecnico (ABT) No. 109S-5, dated July 26, 2006, for Model A109S helicopters; ABT No. 109EP-70, dated July 27, 2006, for Model A109E helicopters; ABT No. 109K-47, dated July 27, 2006, for Model A109K2 helicopters; ABT No. 109-122, dated July 27, 2006, for Model A109, A109A, A109A II, and A109C helicopters; or ABT No. 119-15, dated July 27, 2006, for Model A119 helicopters.

(i) If the torsion value force of the ball bearing in either end of the link assembly is greater than 7.30 N, the link assembly is unairworthy.

(ii) If the torsion value force of the ball bearing in both ends of the link assembly is equal to or less than 7.30 N, after cleaning the link assembly stem using aliphatic naphtha, or equivalent, and a soft non-metallic bristle brush, inspect all 4 (four) faces of the stem of the link assembly for a crack using a 10x or higher magnifying glass. If you cannot determine whether there is a crack in the stem of the link assembly by using a 10x or higher magnifying glass, conduct a dye penetrant inspection by referring to Figure 1 and following the Compliance Instructions, Part II, paragraphs 6. through 6.7, of the ABT that is applicable to your model helicopter. If a crack is found, the link assembly is unairworthy.

(3) For a link assembly which has been inspected in accordance with paragraph (e)(2) of this AD and determined to be unairworthy, before further flight, replace the link assembly with an airworthy link assembly. Only a link assembly with a “T” marked after the serial number, documenting that the link assembly has been inspected for a crack, is eligible for installation.

(f) Alternative Methods of Compliance (AMOCs)

(1) The Manager, Safety Management Group, FAA, may approve AMOCs for this AD. Send your proposal to: Gary Roach, Aviation Safety Engineer, Regulations and Policy Group, Rotorcraft Directorate, FAA, 2601 Meacham Blvd., Fort Worth, Texas 76137; telephone (817) 222-5110; email gary.b.roach@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency AD No. 2006-0228-E, dated July 27, 2006.

(h) Subject

Joint Aircraft Service Component (JASC) Code: 6400, Tail Rotor System.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Agusta Alert Bollettino Tecnico No. 109S-5, dated July 26, 2006;

(ii) Agusta Alert Bollettino Tecnico No. 109EP-70, dated July 27, 2006;

(iii) Agusta Alert Bollettino Tecnico No. 109K-47, dated July 27, 2006;

(iv) Agusta Alert Bollettino Tecnico No. 109-122, dated July 27, 2006; and

(v) Agusta Alert Bollettino Tecnico No. 119-15, dated July 27, 2006.

(3) For Agusta service information identified in this AD, contact Agusta Westland, Customer Support & Services, Via Per Tornavento 15, 21019 Somma Lombardo (VA) Italy, ATTN: Giovanni Cecchelli; telephone 39 (0331) 711133; fax 39 (0331) 711180; or at http://www.agustawestland.com/technical-bullettins.

(4) You may view this referenced service information at the FAA, Office of the Regional Counsel, Southwest Region, 2601 Meacham Blvd., Room 663, Fort Worth, Texas 76137.

(5) You may also view this service information at the National Archives and Records Administration (NARA). For information on the availability of this material at NARA, call (202) 741-6030, or go to: http://www.archives.gov/federal-register/cfr/ibr-locations.html.

Issued in Fort Worth, Texas, on March 7, 2013.
Lance T. Gant,
Acting Directorate Manager, Rotorcraft Directorate, Aircraft Certification Service.

[FR Doc. 2013-06131 Filed 3-25-13; 8:45 am]

BILLING CODE 4910-13-P